DEPARTMENT OF THE TREASURY

United States Mint

Pricing for the American Eagle 25th Anniversary Silver Coin Set

AGENCY: United States Mint, Department of the Treasury.

ACTION: Notice.

SUMMARY: The United States Mint is announcing the price of the American Eagle 25th Anniversary Silver Coin Set. The coin set will be offered for sale at a price of $299.95.

FOR FURTHER INFORMATION CONTACT: B. B. Craig, Associate Director for Sales and Marketing; United States Mint; 801 9th Street NW., Washington, DC 20220; or call (202) 354-7500.

Authority: 31 U.S.C. 5111, 5112 & 9701 .

Richard A. Peterson,
Deputy Director, United States Mint.

[FR Doc. 2011-28327 Filed 11-1-11; 8:45 am]

BILLING CODE 4810-02-P